SMALL BUSINESS ADMINISTRATION

Audit and Financial Management Advisory (AFMAC) Committee Meeting

The U.S. Small Business Administration's Audit and Financial Management Advisory Committee (AFMAC) will meet on September 12, 2005 at 11 a.m. in the Administrator's conference room. The AFMAC was established by the Administrator of the SBA to provide recommendation and advice regarding the Agency's financial management including the financial reporting process, systems of internal controls, audit process and process for monitoring compliance with relevant laws and regulations.

Anyone wishing to attend must contact Thomas Dumaresq in writing or by fax. Thomas Dumaresq, Chief Financial Officer, 409 3rd Street SW., Washington, DC 20416, phone (202) 205-6506, fax: (202) 205-6869, e-mail: thomas.dumaresq@sba.gov.

Dated: August 17, 2005.
Carmen-Rosa Torres,
Director, Office of the Chief Financial Officer, Office of Analysis, Planning and Accountability.

[FR Doc. 05-16921 Filed 8-24-05; 8:45 am]

BILLING CODE 8025-01-P